DEPARTMENT OF HEALTH AND HUMAN SERVICES

Meeting of the Advisory Committee on Minority Health; Correction

AGENCY: Department of Health and Human Services, Office of the Secretary, Office of the Assistant Secretary for Health, Office of Minority Health.

ACTION: Notice; correction.

SUMMARY: The Department of Health and Human Services published a notice in the Federal Register, dated June 17, 2014, to announce a meeting of the Advisory Committee on Minority Health that will be held on Tuesday, July 8, 2014, from 9 a.m. to 5 p.m., and on Wednesday, July 9, 2014, from 9 a.m. to 4 p.m. The meeting is scheduled to be held at the Omni Shoreham Hotel, 2500 Calvert Street NW., Washington, DC 20008. The posted meeting times have been changed.

FOR FURTHER INFORMATION CONTACT: Dr. Rashida Dorsey, OMH-ACMH@hhs.gov, Tower Building; 1101 Wootton Parkway, Suite 600; Rockville, MD 20852; Phone: 240-453-8222; Fax: 240-453-8223. http://www.pacha.gov.

Correction

In the Federal Register, dated June 17, 2014, FR Doc. 2014-14066, on page 34531, in the second column, correct the posted meeting times noted under the DATES caption to read:

DATES: Tuesday, July 8, 2014, from 9 a.m. to 3 p.m., and on Wednesday, July 9, 2014, from 9 a.m. to 3 p.m.

Dated: June 26, 2014.
Rashida Dorsey,
Designated Federal Officer, Advisory Committee on Minority Health.

[FR Doc. 2014-15592 Filed 7-2-14; 8:45 am]

BILLING CODE 4150-29-P